DEPARTMENT OF ENERGY

Federal Energy Regulatory Commission

Combined Notice of Filings

Take notice that the Commission has received the following Natural Gas Pipeline Rate and Refund Report filings:

Filings Instituting Proceedings

Docket Numbers: RP12-781-000.

Applicants: East Tennessee Natural Gas, LLC.

Description: Negotiated Rate Agreements—Sequent to be effective 6/1/2012.

Filed Date: 6/1/12.

Accession Number: 20120601-5160.

Comments Due: 5 p.m. ET 6/13/12.

Docket Numbers: RP12-783-000.

Applicants: ANR Pipeline Company.

Description: Negotiated Rate—TVA to be effective 6/1/2012.

Filed Date: 6/1/12.

Accession Number: 20120601-5176.

Comments Due: 5 p.m. ET 6/13/12.

Docket Numbers: RP12-784-000.

Applicants: Elba Express Company, L.L.C.

Description: 2012 Annual Cashout True-Up Report of Elba Express Company, L.L.C.

Filed Date: 6/1/12.

Accession Number: 20120601-5183.

Comments Due: 5 p.m. ET 6/13/12.

Docket Numbers: RP12-785-000.

Applicants: Equitrans, L.P.

Description: FTS Variable Transportation Contract Demand Filing to be effective 7/1/2012.

Filed Date: 6/1/12.

Accession Number: 20120601-5188.

Comments Due: 5 p.m. ET 6/13/12.

Docket Numbers: RP12-786-000.

Applicants: CenterPoint Energy Gas Transmission Comp.

Description: CEGT LLC—June 2012 Negotiated Rate Filing to be effective 6/1/2012.

Filed Date: 6/1/12.

Accession Number: 20120601-5293.

Comments Due: 5 p.m. ET 6/13/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-130-002.

Applicants: Paiute Pipeline Company.

Description: Fourth Revised Volume No. 1-A to be effective 5/2/2012.

Filed Date: 6/1/12.

Accession Number: 20120601-5257.

Comments Due: 5 p.m. ET 6/13/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated June 5, 2012.
Nathaniel J. Davis, Sr.,
Deputy Secretary

[FR Doc. 2012-14022 Filed 6-8-12; 8:45 am]

BILLING CODE 6717-01-P